DEPARTMENT OF THE INTERIOR

Fish and Wildlife Service

Notice of Receipt of Applications for Permit

Endangered Species

The following applicants have applied for a permit to conduct certain activities with endangered species. This notice is provided pursuant to section 10(c) of the Endangered Species Act of 1973, as amended (16 U.S.C. 1531, et seq.):

Applicant: Wendell Fairbanks, Hastings, ND, PRT-029691.

The applicant requests a permit to import the sport-hunted trophy of one male bontebok (Damaliscus pygargus dorcas) culled from a captive herd maintained under the management program of the Republic of South Africa, for the purpose of enhancement of the survival of the species.

Applicant: David P. Johnson, Miduahe, UT, PRT-032827.

The applicant requests a permit to import the sport-hunted trophy of one male bontebok (Damaliscus pygargus dorcas) culled from a captive herd maintained under the management program of the Republic of South Africa, for the purpose of enhancement of the survival of the species.

Applicant: Bruce Taylor, Columbia, SC, PRT-032825.

The applicant requests a permit to import the sport-hunted trophy of one male bontebok (Damaliscus pygargus dorcas) culled from a captive herd maintained under the management program of the Republic of South Africa, for the purpose of enhancement of the survival of the species.

Applicant: Brigham Young University, Provo, UT, PRT-006998.

The applicant amends an request for a permit to import tissue samples and voucher specimens of wild Giant Amazon River turtles (Podocnemis expansa) and Yellow-Spotted River turtles (Podocnemis unifilis) from Brazil to include Venezuela and Peru. The previous notification appeared in Federal Register Notice Vol. 64, No. 242. This notification covers activities conducted by the applicant over a five year period.

Written data or comments should be submitted to the Director, U.S. Fish and Wildlife Service, Division of Management Authority, 4401 North Fairfax Drive, Room 700, Arlington, Virginia 22203 and must be received by the Director on or before October 19, 2000.

Marine Mammals

The public is invited to comment on the following application for a permit to conduct certain activities with marine mammals. The application was submitted to satisfy requirements of the Marine Mammal Protection Act of 1972, as amended (16 U.S.C. 1361 et seq.) and the regulations governing marine mammals (50 CFR 18).

Applicant: USGS Biological Resources Division, Anchorage, AK, PRT-766818.

Type of Permit: Take for scientific research.

Name and Number of Animals: Southern and Northern Sea Otters. (Enhydra lutris lutris and Enhydra lutris nereis); Up to 15 animals from California and up to 40 animals from Alaska, 0.5 to 1.0 gram liver biopsy samples.

Summary of Activity to be Authorized: The applicant requests an amendment to their permit to collect liver biopsy samples for scientific research purposes to determine estimates of contaminants exposure. At the time of previously permitted surgical procedures, a liver sample will be removed by sterile scalpel.

Source of Marine Mammals: As described above and in current permit.

Period of activity: Until February, 2002.

Concurrent with the publication of this notice in the Federal Register, the Division of Management Authority is forwarding copies of the application listed above to the Marine Mammal Commission and the Committee of Scientific Advisors for their review.

Applicant: J. Herbert Fisher, Jr., Lancaster, PA, PRT-032816.

The applicant requests a permit to import a polar bear (Ursus maritimus) sport-hunted from the Lancaster Sound polar bear population, Canada for personal use.

Applicant: Noah W. Horn, Vasant, VA, PRT-032748.

The applicant requests a permit to import a polar bear (Ursus maritimus) sport-hunted from the Southern Beaufort Sea polar bear population, Canada for personal use.

Written data or comments should be submitted to the Director, U.S. Fish and Wildlife Service, Division of Management Authority, 4401 North Fairfax Drive, Room 700, Arlington, Virginia 22203 and must be received by the Director within 30 days of the date of this publication.

Documents and other information submitted with these applications are available for review, subject to the requirements of the Privacy Act and Freedom of Information Act, by any party who submits a written request for a copy of such documents to the following office on or before October 19, 2000: U.S. Fish and Wildlife Service, Office of Management Authority, 4401 North Fairfax Drive, Room 700, Arlington, Virginia 22203. Phone: (703/358-2104); FAX: (703/358-2281).

Dated: September 13, 2000.
Charlie Chandler,
Chief, Branch of Permits, Division of Management Authority.

[FR Doc. 00-23955 Filed 9-18-00; 8:45 am]

BILLING CODE 4310-55-U